DEPARTMENT OF LABOR

Employment and Training Administration

[TA-W-39,725 and NAFTA-05102]

General Mills Snack Division, Carlisle, PA; Notice of Negative Determination Regarding Application for Reconsideration

By application of December 14, 2001, petitioners requested administrative reconsideration of the Department's negative determination regarding eligibility for workers and former workers of the subject firm to apply for Trade Adjustment Assistance (TAA) under petition TA-W-39,725 and North American Free Trade Agreement-Transitional Adjustment Assistance (NAFTA-TAA) under petition NAFTA-5102. The TAA and NAFTA-TAA denial notices applicable to workers of General Mills, Snack Division, Carlisle, Pennsylvania, were signed on November 5, 2001 and November 19, 2001, and published in the Federal Register on November 20, 2001 (66 FR 58171) and December 5, 2001 (66 FR 58171) and December 5, 2001 (66 FR 63262), respectively.

Pursuant to 29 CFR 90.18(c) reconsideration may be granted under the following circumstances:

(1) If it appears on the basis of facts not previously considered that the determination complained of was erroneous;

(2) If it appears that the determination complained of was based on a mistake in the determination of facts not previously considered; or

(3) if in the opinion of the Certifying Officer, a misinterpretation of facts or of the law justified reconsideration of the decision.

The TAA petition, filed on behalf of workers at General Mills, Snack Division, Carlisle, Pennsylvania engaged in the production of single-serve fruit juice and fruit-based beverages, was denied because the “contributed importantly” group eligibility requirement of section 222(3) of the Trade Act of 1974, as amended, was not met. The company made a decision to exit the single-serve juice and fruit-based beverages business because the product no longer fit into this company's long-term plan for the Snacks Division. Imports of single-serve juice and fruit-based beverages did not contribute importantly to the declines in employment at the subject plant.

The NAFTA-TAA petition for the same worker group was denied because criteria (3) and (4) of the group eligibility requirements in paragraph (a)(1) of section 250 of the Trade Act, as amended, were not met. The company made a decision to exit the single-serve juice and fruit-based beverages business because the product no longer fit into this company's long-term plan for the Snacks Division. The subject firm did not shift production to Canada or Mexico, nor did they import from Canada or Mexico single serve fruit juices or fruit-based beverages during the relevant period.

The petitioner feels that the products produced by the subject firm were impacted by imports of products like or directly competitive with what the subject plant produced.

Based on available industry data, the domestic market for single serve fruit beverages faces little or no competition from foreign sources. U.S. imports of single fruit or vegetable juice were negligible during the relevant period.

Conclusion

After review of the application and investigative findings, I conclude that there has been no error or misinterpretation of the law or of the facts which would justify reconsideration of the Department of Labor's prior decisions. Accordingly, the application is denied.

Signed at Washington, DC, this 22nd day of March, 2002.
Edward A. Tomchick,
Director, Division of Trade Adjustment Assistance.

[FR Doc. 02-9758 Filed 4-19-02; 8:45 am]

BILLING CODE 4510-30-M